DEPARTMENT OF DEFENSE

Office of the Secretary

Renewal of Department of Defense Federal Advisory Committees—Defense Advisory Committee for the Prevention of Sexual Misconduct

AGENCY: Department of Defense (DoD).

ACTION: Renewal of Federal advisory committee.

SUMMARY: The DoD is publishing this notice to announce that it is renewing the Defense Advisory Committee for the Prevention of Sexual Misconduct (DAC-PSM).

FOR FURTHER INFORMATION CONTACT: Jim Freeman, Advisory Committee Management Officer for the Department of Defense, 703-697-1142.

SUPPLEMENTARY INFORMATION: The DAC-PSM is being renewed in accordance with chapter 10 of title 5, United States Code (U.S.C.) (commonly referred to as the “Federal Advisory Committee Act” or “FACA”) and 41 Code of Federal Regulations (CFR) chapter 102-3.55(a)(4). The charter and contact information for the DAC-PSM's Designated Federal Officer (DFO) are found at https://www.facadatabase.gov/FACA/apex/FACAPublicAgencyNavigation.

Pursuant to subsection 550B(c)(1) of the National Defense Authorization Act for Fiscal Year 2020 (“the NDAA for FY 2020”), the DAC-PSM shall provide independent recommendations on the prevention of sexual assault (including rape, forcible sodomy, other sexual assault, and other sexual misconduct including behaviors on the sexual assault continuum of harm) involving members of the Armed Forces and the policies, programs and practices of each Military Department, each Armed Force, and each Military Service Academy for the prevention of sexual assault. Pursuant to section 535 of the NDAA for FY 2021, “Military Service Academy” includes the United States Coast Guard Academy.

In accordance with subsection 550B(b)(1) of the NDAA for FY 2020, the DAC-PSM shall consist of not more than 20 members, appointed, or designated by the Secretary of Defense from among individuals who have expertise appropriate for the work of the DAC-PSM, including at least one individual with each expertise as follows: a. The prevention of sexual assault and behaviors on the sexual assault continuum of harm; b. Adverse behaviors, including the prevention of suicide and the prevention of substance abuse; c. The change of culture of large organizations; or d. Implementation science.

In accordance with subsection 550B(b)(2) of the NDAA for FY 2020, individuals appointed or designated to the DAC-PSM may include individuals with experience in sexual assault prevention efforts of institutions of higher education, public health officials, and such other individuals as the Secretary of Defense considers appropriate. As further described in subsection 550B(b)(3) of the NDAA for FY 2020, no active-duty member of the Armed Forces, as defined by 10 U.S.C. 101(a)(4), shall be appointed or designated as a DAC-PSM member.

DAC-PSM members who are not full-time or permanent part-time Federal civilian officers or employees, or active-duty members of the Uniformed Services, shall be appointed as experts or consultants pursuant to 5 U.S.C. 3109 to serve as special government employee members. DAC-PSM members who are full-time or permanent part-time Federal civilian officers or employees, or active-duty members of the Uniformed Services (excluding the Armed Forces), shall be designated pursuant to 41 CFR 102-3.130(a) to serve as regular government employee members. The DoD Appointing Authority shall appoint the DAC-PSM's leadership from among the membership previously approved to serve on the DAC-PSM in accordance with DoD policy and procedures, for a term of service of one-to-two years, with annual renewal, which shall not exceed the member's approved DAC-PSM appointment or designation.

DAC-PSM members are appointed or designated to exercise their own best judgment on behalf of the DoD, without representing any particular points of view, and to discuss and deliberate in a manner that is free from conflicts of interest. Except for reimbursement of official DAC-PSM-related travel and per diem, DAC-PSM members serve without compensation.

The public or interested organizations may submit written statements to the DAC-PSM about the DAC-PSM's mission and functions. Written statements may be submitted at any time or in response to the stated agenda of planned meeting of the DAC-PSM. All written statements shall be submitted to the DFO for the DAC-PSM, and this individual will ensure that the written statements are provided to the membership for their consideration.

Dated: November 5, 2024.
Stephanie J. Bost,
Alternate OSD Federal Register Liaison Officer, Department of Defense.

[FR Doc. 2024-26101 Filed 11-8-24; 8:45 am]

BILLING CODE 6001-FR-P